DEPARTMENT OF COMMERCE

National Oceanic and Atmospheric Administration

RIN 0648-XE864

Gulf of Mexico Fishery Management Council; Public Meeting

AGENCY: National Marine Fisheries Service (NMFS), National Oceanic and Atmospheric Administration (NOAA), Commerce.

ACTION: Notice of a public meeting via webinar.

SUMMARY: The Gulf of Mexico Fishery Management Council (Council) will hold a public hearing to solicit public comments on Electronic Reporting Requirements for For-Hire Vessels via webinar.

DATES: The meeting will convene Wednesday, September 28, 2016, from 6 p.m. to 9 p.m. EDT.

ADDRESSES: The meeting will be held via webinar; you may register at: https://attendee.gotowebinar.com/register/3181204175348645889.

Council address: Gulf of Mexico Fishery Management Council, 2203 N. Lois Avenue, Suite 1100, Tampa, FL 33607; telephone: (813) 348-1630.

FOR FURTHER INFORMATION CONTACT: Dr. John Froeschke, Fishery Biologist-Statistician, Gulf of Mexico Fishery Management Council; john.froeschke@gulfcouncil.org; telephone: (813) 348-1630.

SUPPLEMENTARY INFORMATION: The agenda for the following webinar is as follows: Council staff will brief the public on the Generic For-Hire Reporting Amendment. This Amendment would require electronic reporting for federally permitted for-hire vessels harvesting species managed in the Reef Fish and Coastal Migratory Pelagic (CMP) species in the Gulf of Mexico. Following the presentation, Council staff will open the meeting for questions and public comments.

Meeting Adjourns

Please register for Public Hearing: Generic Amendment to Require Electronic Reporting For-hire Vessels on September 28, 2016, 6 p.m. EDT at: https://attendee.gotowebinar.com/register/3181204175348645889.

The Agenda is subject to change, and the latest version along with other meeting materials will be posted on the Council's file server. To access the file server, the URL is https://public.gulfcouncil.org:5001/webman/index.cgi, or go to the Council's Web site and click on the File Server link in the lower left of the Council Web site (http://www.gulfcouncil.org). The username and password are both “gulfguest”. Click on the “Library Folder”, then scroll down to “Generic For-Hire Electronic Reporting”.

Although other non-emergency issues not on the agenda may come before the staff for discussion, in accordance with the Magnuson-Stevens Fishery Conservation and Management Act, those issues may not be the subject of formal action during this meeting. Actions of the staff will be restricted to those issues specifically identified in the agenda and any issues arising after publication of this notice that require emergency action under section 305(c) of the Magnuson-Stevens Fishery Conservation and Management Act, provided the public has been notified of the Council's intent to take action to address the emergency.

Dated: September 6, 2016.
Tracey L. Thompson,
Acting Deputy Director, Office of Sustainable Fisheries, National Marine Fisheries Service.

[FR Doc. 2016-21728 Filed 9-8-16; 8:45 am]

BILLING CODE 3510-22-P